DEPARTMENT OF TRANSPORTATION

Federal Aviation Administration

Twelfth RTCA SC-228 Minimum Performance Standards (MPS) for UAS Focused-Topic Plenary

AGENCY: Federal Aviation Administration (FAA), U.S. Department of Transportation (DOT).

ACTION: Twelfth RTCA SC-228 Minimum Performance Standards (MPS) for UAS Focused-Topic Plenary.

SUMMARY: The FAA is issuing this notice to advise the public of a meeting of Twelfth RTCA SC-228 Minimum Performance Standards (MPS) for UAS Focused-Topic Plenary.

DATES: The meeting will be held virtually November 14, 2016, 12:30 p.m.-01:30 p.m.

ADDRESSES: The meeting will be held at: Virtual meeting ONLY. Join at the following link: https://rtca.webex.com/rtca/j.php?MTID=m0be5cd6a8d8d86fc024338aca4569302.

FOR FURTHER INFORMATION CONTACT: Al Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twelfth RTCA SC-228 Minimum Performance Standards (MPS) for UAS Focused-Topic Plenary. The agenda will include the following:

Monday, November 14, 2016, 12:30 p.m. to 1:30 p.m.

1. Welcome/Introductions/Administrative Remarks/SC-228 Participation Guidelines

a. Reading of the Public Announcement by the DFO

b. Reading of the RTCA Proprietary References Policy

2. Agenda Overview

3. Determine approval of WG-1 DAA MOPS

a. DAA MOPS Document Approval

b. Air-to-Air Radar MOPS Document Approval

4. Adjourn

Attendance is open to the interested public. With the approval of the chairman, members of the public may present oral statements at the meeting. Persons wishing to present statements or obtain information should contact the person listed in the FOR FURTHER INFORMATION CONTACT section. Members of the public may present a written statement to the committee at any time.

Issued in Washington, DC, on October 13, 2016.
Mohannad Dawoud,
Management & Program Analyst, Partnership Contracts Branch, ANG-A17, NextGen, Procurement Services Division, Federal Aviation Administration.

[FR Doc. 2016-25187 Filed 10-18-16; 8:45 am]

BILLING CODE 4910-13-P